NUCLEAR REGULATORY COMMISSION

Advisory Committee on Reactor Safeguards (ACRS); Meeting of the ACRS Subcommittees on Reliability and PRA; Revision to Notice of Meetings

The ACRS Subcommittee on Reliability and PRA originally scheduled for the morning of April 24, 2013, has been moved to the afternoon of April 24, 2013, 1:00 p.m. until 5:00 p.m.

This notice was previously published in the Federal Register on Wednesday, April 17, 2013 [78 FR 22918].

Further information regarding these meetings can be obtained by contacting the Designated Federal Official (DFO), John Lai (Telephone 301-415-5197 or Email: John.Lai@nrc.gov) between 8:15 a.m. and 5:00 p.m.

Dated: April 17, 2013.
Girija Shukla,
Acting Chief, Technical Support Branch, Advisory Committee on Reactor Safeguards.

[FR Doc. 2013-09790 Filed 4-24-13; 8:45 am]

BILLING CODE 7590-01-P